ENVIRONMENTAL PROTECTION AGENCY

[FRL-7378-3]

Agency Information Collection Activities: Proposed Collection; Comment Request; Tribal Operator Certification Program Information Collection Request

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Tribal Operator Certification Program ICR, EPA No. 2092.01. Before submitting the ICR to OMB for review and approval, EPA is soliciting comments on specific aspects of the proposed information collection as described below.

DATES: Comments must be submitted on or before November 18, 2002.

ADDRESSES: People interested in making comments about the burden and/or cost estimates outlined in the Tribal Operator Certification Program ICR should direct comments to the Office of Ground Water and Drinking Water, Drinking Water Protection Branch, Mail Code 4606M, 1200 Pennsylvania Avenue, NW., Washington, DC 20460.

FOR FURTHER INFORMATION CONTACT: For more information, or to obtain a copy of the draft Tribal Operator Certification Program ICR without charge, please contact Lisa Christ (202) 564-8354, fax (202) 564-3755, e-mail: christ.lisa@epa.gov.

SUPPLEMENTARY INFORMATION: Affected entities: Entities potentially affected by this action are Tribal Drinking Water Systems and Tribal Operator Certification Providers.

Title: Tribal Operator Certification Program Information Collection Request (EPA No. 2092.01).

Abstract: The Tribal Operator Certification Program was developed to increase public health protection by increasing training and certification of personnel operating community and nontransient noncommunity drinking water systems in Indian Country. This voluntary program is intended to provide tribes with further training and certification opportunities in addition to existing training or certification programs offered by States, various federal agencies, and private organizations. The Information Collection Request will estimate the burden and cost to tribal drinking water system operators who seek certifications from EPA approved providers.

In addition, the burden and cost to Tribal Certification Providers will be estimated. The information collected will be used to measure EPA's goal for 80% of tribal community and nontransient noncommunity water systems to have a certified operator by 2005. Establishing a tribal operator certification program will help achieve this goal while bringing greater public health protection to tribal communities. The information collected will include: number and level of new certifications, number and level of renewal certifications, information regarding revoked and suspended certifications, and training status for tribal drinking water system operators. Responses to the collection of information are voluntary. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated annual burden for the Tribal Operator Certification Program is approximately 2,597 hours. The estimated average burden hours per response is 17.6 hours. The estimated average number of responses per respondent is 0.54. The estimated number of likely respondents annually is 271. The estimated annual cost is $71,256; of which $0 represents capital and start-up costs, and $82 represents operation and maintenance costs. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 11, 2002.
Cynthia C. Dougherty,
Director, Office of Ground Water and Drinking Water.

[FR Doc. 02-23592 Filed 9-16-02; 8:45 am]

BILLING CODE 6560-50-P